DEPARTMENT OF JUSTICE

28 CFR Part 16

[AAG/A Order No. 012-2003]

Privacy Act of 1974; Implementation

AGENCY: Department of Justice, Bureau of Alcohol, Tobacco, Firearms, and Explosives.

ACTION: Final rule.

SUMMARY: The Department of Justice, Bureau of Alcohol, Tobacco, Firearms, and Explosives (ATF), is exempting five Privacy Act systems of records from the subsections of the Privacy Act listed below. The five systems of records were published in the Federal Register on January 24, 2003 (68 FR 3551). As described in this rule, the exemptions are necessary to protect law enforcement and investigatory information and functions of ATF.

EFFECTIVE DATE: This final rule is effective April 18, 2003.

FOR FURTHER INFORMATION CONTACT: Mary Cahill (202) 307-1823.

SUPPLEMENTARY INFORMATION: The exemptions will be applied only to the extent that information in a record is subject to exemption pursuant to 5 U.S.C. 552a(j) and (k).

On November 25, 2002, the President signed into law the Homeland Security Act of 2002, Pub. L. 107-296, 116 Stat. 2135 (2002). Under Title XI, Subtitle B of the Act, the “authorities, functions, personnel, and assets” of the Bureau of Alcohol, Tobacco, and Firearms are transferred to the Department of Justice, with the exception of certain enumerated authorities that were retained by the Department of the Treasury. The functions retained by the Department of the Treasury are the responsibility of a new Alcohol and Tobacco Tax and Trade Bureau. Section 1111 of the Homeland Security Act further provides that the Bureau will retain its identity as a separate entity within the Department of Justice known as the Bureau of Alcohol, Tobacco, Firearms, and Explosives (ATF). The transfer took effect January 24, 2003.

In accordance with the requirements of the Privacy Act of 1974, as amended, 5 U.S.C. 552a, on January 24, 2003, ATF published its Privacy Act systems of records and converted certain ATF systems of records from Department of the Treasury systems to Department of Justice systems pursuant to the reorganization and transfer of ATF to the Department of Justice. (The publication of these systems of records as Justice systems does not rescind the Treasury/ATF systems of records, as they govern the Alcohol and Tobacco Tax and Trade Bureau within the Department of the Treasury.) There has been no change in the maintenance or operations of the systems of records by ATF, nor has there been a change in the exemptions claimed. Rather, these systems notices were published to reflect the transfer of ATF to the Department of Justice.

Because the transfer of ATF to the Department of Justice was effective on January 24, 2003, it was necessary to immediately establish all appropriate exemptions to the Privacy Act in order to protect law enforcement and investigatory information and functions of ATF. These exemptions needed to be effective on January 24, 2003, the date of the transfer. It would be contrary to the public interest to allow the disclosure of information that could compromise ongoing investigations and law enforcement activities of the ATF. Accordingly, pursuant to the good cause exceptions found at 5 U.S.C. 553(b)(3)(B) and (d)(3), the Department found that notice and public procedure on this rule were impracticable and contrary to the public interest.

However, comments were requested on or before March 25, 2003. No comments were received. Therefore, the Department of Justice is issuing a final rule.

Regulatory Flexibility Act

This rule relates to individuals, as opposed to small business entities. Nevertheless, pursuant to the requirements of the Regulatory Flexibility Act 5 U.S.C. 601-612, the rule will not have a significant economic impact on a substantial number of small entities.

List of Subjects in 28 CFR Part 16

Administrative practices and procedures, Courts, Freedom of Information, and Privacy.

Accordingly, the interim rule amending 28 CFR part 16 which was published at 68 FR 3392 on January 24, 3003, is adopted as final without change.

Dated: April 9, 2003.
Paul R. Corts,
Assistant Attorney General for Administration.

[FR Doc. 03-9324 Filed 4-17-03; 8:45 am]

BILLING CODE 4410-FY-P